DEPARTMENT OF COMMERCE

International Trade Administration

AGENCY: International Trade Administration, Department of Commerce.

ACTION: Notice.

SUMMARY: The Department of Commerce invites U.S. companies to participate in the following overseas trade missions that they also explain at the following website: http://www.its.doc.gov/doctm. For a comprehensive description of the trade mission, obtain a copy of the mission statement from the project officer listed below. The recruitment and selection of private sector participants will be conducted according to the Statement of Policy Governing Department of Commerce Overseas Trade Missions announced by Secretary Daley on March 3, 1997.

The Aerospace Executive Service at the Farnborough International Air Show 2000

United Kingdom

July 24-30, 2000

For Further Information Contact: Roderick A. Hirsch at the Department of Commerce in Long Beach, CA; Telephone number: (562) 980-4566 or Fax: (562) 980-4561.

Housing Business Development Mission to China

Hong Kong, Shanghai, Chendu & Beijing

June 5-14, 2000

For Further Information Contact: Chris Twarok at the Department of Commerce in Washington, DC; Telephone number: (202) 482-0377 or Fax: (202) 482-0382.

Anita Blackman,
Director of Operations, Office of Domestic Operations.

[FR Doc. 00-12077 Filed 5-12-00; 8:45 am]

BILLING CODE 3510-FP-P